MORRIS K. UDALL SCHOLARSHIP AND EXCELLENCE IN NATIONAL ENVIRONMENTAL POLICY FOUNDATION

Sunshine Act Meeting

Time and Date: 8 a.m. to 11 a.m., Thursday, April 27, 2006; 8 a.m. to 11 a.m., Friday, April 28; and 8 a.m.-10 a.m., Saturday, April 29.

Place: The Westward Look Resort, 245 East Ina Road, Tucson, AZ 85704.

Status: This meeting will be open to the public, unless it is necessary for the Board to consider items in executive session.

Matter to be Consider: The board will meet to review the Foundation's 5-yr. operating plan and discuss future program directions for the Foundations work.

Portions Open to the Public: All sessions with the exception of the session listed below.

Portions Closed to the Pubic: Executive session.

Contact Person For More Information: Christopher L. Helms, Executive Director, 130 South Scott Avenue, Tuscon, AZ 85701, (520) 670-5529.

Dated: April 11, 2006.
Christopher L. Helms,
Executive Director, Morris K. Udall Scholarship and Excellence in National Environmental Policy Foundation, and Federal Register Liaison Officer.

[FR Doc. 06-3615 Filed 4-12-06; 10:04 am]

BILLING CODE 6820-FN-M